DEPARTMENT OF THE INTERIOR

Fish and Wildlife Service

[FWS-R6-R-2016-N139; FF06R06000-FXRS12610600000-178]

Establishment of Bear River Watershed Conservation Area, Idaho, Wyoming, and Utah

AGENCY: Fish and Wildlife Service, Interior.

ACTION: Notice.

SUMMARY: This notice advises the public that the U.S. Fish and Wildlife Service (Service) has established the Bear River Watershed Conservation Area, the 565th unit of the National Wildlife Refuge System. The Service established the Bear River Watershed Conservation Area on June 28, 2016, with the donation of approximately 30 acres in Box Elder County, Utah.

ADDRESSES: A map depicting the approved Refuge boundary and other information regarding the Refuge is available on the Internet at https://www.fws.gov/mountain-prairie/refuges/lpp_brr.php.

FOR FURTHER INFORMATION CONTACT: Toni Griffin, Planning Team Leader, Refuge Planning Branch, USFWS, P.O. Box 25486, DFC, Denver, CO 80225; 303-236-4378.

SUPPLEMENTARY INFORMATION: The Service established the Bear River Watershed Conservation Area, which encompasses more than 4.5 million acres in the States of Idaho, Wyoming, and Utah, in 2013. The establishment of the conservation area authorizes the Service to work in partnership with private landowners to conserve wildlife habitat through perpetual easements. Bear Lake National Wildlife Refuge, Bear River Migratory Bird Refuge, Cokeville Meadows National Wildlife Refuge, and Oxford Slough Waterfowl Production Area are previously established National Wildlife Refuge System (Refuge System) units within the watershed that are largely owned in fee-title. Along with the existing refuge units in the watershed, the conservation area supports more than 200 species of birds, particularly migratory birds within the Central and Pacific Flyways. The conservation area also provides habitat and important migratory linkages for many mammals, such as elk and pronghorn; and its rivers and lakes support a number of native fish species, such as Bonneville cutthroat trout. The Bear River is the largest surface water source for the Great Salt Lake ecosystem and is the meeting point of the Great Basin and Southern Rockies in the region. The Service will work with conservation partners and landowners to protect priority habitat for priority native species such as the American avocet, Bonneville cutthroat trout, greater sage-grouse, and sage thrasher on up to 920,000 acres in the 4.5-million-acre watershed. This goal will be accomplished primarily through the purchase of perpetual conservation easements from willing sellers in Idaho, Wyoming, and Utah.

The Service recognizes the importance of working with private landowners and other partners for mutual conservation interests. Farming and ranching have played an essential role in conserving valuable fish and wildlife habitat throughout the Bear River watershed.

The establishment of the Bear River Watershed Conservation Area allows the Service to purchase conservation easements using the acquisition authority of the Fish and Wildlife Act of 1956 (16 U.S.C. 742a-j). The federal money used to acquire conservation easements is primarily from the Land and Water Conservation Fund Act of 1965, as amended (16 U.S.C. 460l-4 through 11) (derived primarily from oil and gas leases on the Outer Continental Shelf, motorboat fuel taxes, and the sale of surplus Federal property). Additional funding to acquire lands, water, or interests for fish and wildlife conservation purposes could be identified by Congress or donated by nonprofit organizations.

The Service has involved the public, agencies, partners, and legislators throughout the planning process for the easement program. At the beginning of the planning process, the Service initiated public involvement for the proposal to protect habitats primarily through acquisition of conservation easements for management as part of the Refuge System. The Service spent time discussing the proposed project with landowners; conservation organizations; Federal, State and County government agencies; Tribes; and other interested groups and individuals in Idaho, Wyoming, and Utah. These open houses were announced in local media.

In compliance with the National Environmental Policy Act of 1969 (42 U.S.C. 4321 et seq.), the Service prepared an environmental assessment (EA) that evaluated two alternatives and their potential impacts on the project area. The Service released the draft EA and land protection plan (LPP), on November 28, 2012, for a 32-day public review period. The draft documents were made available to federal elected officials and agencies, state elected officials and agencies, Native American Tribes with aboriginal or tribal interests, and other members of the public that were identified during the scoping process that included six public meetings. The Service held six additional open-house public meetings to discuss the draft EA and LPP on December 4, 2012 in Logan, Utah; December 5, 2012 in Randolph, Utah; December 6, 2012 in Montpelier, Idaho; December 7, 2012 in Preston, Idaho; December 10, 2012 in Cokeville, Wyoming; and December 11, 2012 in Evanston, Wyoming. These meetings were announced in advance in local media. Approximately 213 landowners, citizens, and elected representatives attended the meetings. The Service received 19 letters from agencies, organizations, and other entities, and 260 general public comments. After all comments were received, they were reviewed and incorporated into the EA and administrative record.

Based on the documentation contained in the EA, a Finding of No Significant Impact was signed on February 27, 2013, and approval from Director Dan Ashe was received on May 1, 2013, for the establishment of the Bear River Watershed Conservation Area.

Dated: August 15, 2016.
Matt Hogan,
Regional Director, Mountain-Prairie Region.

[FR Doc. 2016-30826 Filed 12-21-16; 8:45 am]

BILLING CODE 4333-15-P